DEPARTMENT OF DEFENSE

Office of the Secretary

[Docket ID: DoD-2020-OS-0005]

Privacy Act of 1974; System of Records

AGENCY: National Geospatial-Intelligence Agency (NGA), Department of Defense (DoD).

ACTION: Rescindment of a System of Records notice.

SUMMARY: The NGA is rescinding a System of Records, Record of Accounts Receivable, B0302-13. This System of Records maintained financial transaction records for contracts involving sales agents, contractors, and civilian employees. All records previously covered by the Record of Accounts Receivable have been destroyed.

DATES: This System of Records rescindment is effective upon publication. The specific date for when this system ceased to be a Privacy Act System of Records is May 1, 2013.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: This system was used to track financial transaction records for contracts involving sales agents, contractors, and civilian employees. All files were destroyed according to the policies and practices for retention and disposal as published in the System of Records Notice.

The DoD System of Records Notices subject to the Privacy Act of 1974 (5 U.S.C. 552a), as amended, have been published in the Federal Register and are available from the address in FOR FURTHER INFORMATION CONTACT section or at the Defense Privacy, Civil Liberties and Transparency Division website at https://dpcld.defense.gov.

The proposed system reports, as required by the Privacy Act of 1974, as amended, were submitted on November 20, 2019 to the House Committee on Oversight and Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

Record of Accounts Receivable, B0302-13.

HISTORY:

February 22, 1993, 58 FR 10189.

Dated: January 10, 2020.
Aaron T. Siegel,
Alternate OSD Federal Register Liaison Officer, Department of Defense.

[FR Doc. 2020-00571 Filed 1-15-20; 8:45 am]

BILLING CODE 5001-06-P